DEPARTMENT OF STATE

[Public Notice 6186]

Determination and Waiver of Section 617(a) of the Department of State, Foreign Operations, Related Programs Appropriations Act (2008) (Division J, Pub. L. 110-161), Relating to Assistance for the Independent States of the Former Soviet Union

Pursuant to the authority vested in me as Deputy Secretary of State, including by Section 617(a) of the Department of State, Foreign Operations, and Related Programs Appropriations Act, 2008) (Division J, Public Law 110-161) (SFOAA), Executive Order 13118 of March 31, 1999, and State Department Delegation of Authority No. 245 of April 23, 2001, I hereby determine that it is in the national security interest of the United States to make available funds appropriated under the heading “Assistance for the Independent States of the Former Soviet Union” in Title II of the SFOAA, without regard to the restriction in that section.

This determination shall be reported to the Congress promptly and published in the Federal Register.

Dated: February 19, 2008.
John D. Negroponte,
Deputy Secretary of State, Department of State.

[FR Doc. E8-7960 Filed 4-11-08; 8:45 am]

BILLING CODE 4710-23-P